NATIONAL AERONAUTICS AND SPACE ADMINISTRATION

[Notice: 16-053]

NASA Advisory Council; Meeting

AGENCY: National Aeronautics and Space Administration.

ACTION: Notice of meeting.

SUMMARY: In accordance with the Federal Advisory Committee Act, Public Law 92-463, as amended, the National Aeronautics and Space Administration (NASA) announces a meeting of the NASA Advisory Council.

DATES: Thursday, July 28, 2016, 9:00 a.m.-5:00 p.m., Local Time; and Friday, July 29, 2016, 9:00 a.m.-12:00 p.m., Local Time.

ADDRESSES: Ohio Aerospace Institute, President's Room, 22800 Cedar Point Road, Cleveland, Ohio 44142.

FOR FURTHER INFORMATION CONTACT: Ms. Marla King, NAC Administrative Officer, NASA Headquarters, Washington, DC 20546, (202) 358-1148.

SUPPLEMENTARY INFORMATION: This meeting will be open to the public up to the capacity of the meeting room. This meeting is also available telephonically and by WebEx. You must use a touch-tone phone to participate in this meeting. Any interested person may dial the USA toll number 1-630-395-0279 or toll free number 1-888-989-4389, Passcode: 3927350 followed by the # sign for both days. To join via WebEx, the link is https://nasa.webex.com/, the meeting number for July 28 is 991 445 749 and the password is nacgrc0728* (case sensitive). The meeting number for July 29 is 998 630 315 and the password is nacgrc0729+ (case sensitive).

The agenda for the meeting will include reports from the following:

—Aeronautics Committee

—Human Exploration and Operations Committee

—Institutional Committee

—Science Committee

—Technology, Innovation and Engineering Committee

—Ad Hoc Task Force on STEM Education

Attendees will be required to sign a register. It is imperative that the meeting be held on this date to accommodate the scheduling priorities of the key participants.

Patricia D. Rausch,
Advisory Committee Management Officer, National Aeronautics and Space Administration.

[FR Doc. 2016-16548 Filed 7-12-16; 8:45 am]

BILLING CODE 7510-13-P